DEPARTMENT OF LABOR

Occupational Safety and Health Administration

29 CFR Part 1926

[Docket No. OSHA-2007-0066]

RIN 1218-AC96

Cranes and Derricks in Construction: Operator Qualification; Approval of Information Collection Requirements

AGENCY: Occupational Safety and Health Administration (OSHA), Department of Labor.

ACTION: Final rule; OMB information collection approval.

SUMMARY: This rule is a technical amendment announcing Office of Management and Budget (OMB) approval for the information collection requirements in the Cranes and Derricks in Construction: Operator Qualification final rule. OSHA sought OMB approval of these requirements under the Paperwork Reduction Act of 1995 (the PRA), and is announcing the approval for these requirements. OSHA is also amending its regulations to display the new OMB control number, which is 1218-0270.

DATE: Effective July 19, 2019.

FOR FURTHER INFORMATION CONTACT: Seleda Perryman, OSHA, Directorate of Standards and Guidance, U.S. Department of Labor; telephone (202) 693-2222.

SUPPLEMENTARY INFORMATION: On November 9, 2018, OSHA published the Cranes and Derricks in Construction: Operator Qualification final rule, revising 29 CFR part 1926, subpart CC. The standard contains new and revised information collection requirements. These requirements are contained in the Information Collection Request (ICR) under control number 1218-0270, which OSHA included in the final rule published in the Federal Register (83 FR 56242-43). OSHA sought OMB approval of these requirements under the PRA (44 U.S.C. 3501 et seq.), and OMB approved the ICR on February 11, 2019. As required by OMB's regulations implementing that Act, this notice is announcing the approval for these requirements and adding the OMB control number 1218-0270 to the list of approved construction standard ICR requirements that is maintained in 29 CFR 1926.5 (see 5 CFR 1320.3(f)). A copy of the approved ICR is available at https://www.reginfo.gov/public/do/PRAViewDocument?ref_nbr=201809-1218-001.

The public has already had the opportunity to comment on the information collection requirements and OMB has approved them. This announcement is to increase public awareness of OMB's approval of the information collection requirements.

Authority and Signature

Loren Sweatt, Acting Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on July 5, 2019.
Loren Sweatt,
Acting Assistant Secretary of Labor for Occupational Safety and Health.

For the reasons stated in the preamble in this notice, the Occupational Safety and Health Administration amends 29 CFR part 1926 as follows:

PART 1926—[AMENDED]

Subpart A—General

1. The authority citation for subpart A continues to read as follows:

Authority: 40 U.S.C. 3701 et seq.; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), or 5-2007 (72 FR 31160), 5-2007 (72 FR 31160), 4-2010 (75 FR 55355), or 1-2012 (77 FR 3912), as applicable; and 29 CFR part 1911.

2. Amend the table in § 1926.5 by revising the entry for “1926.1427” to read as follows:

§ 1926.5 OMB control numbers under the Paperwork Reduction Act

* * * * *

29 CFR citation | OMB control No.
* * * *
1926.1427 | 1218-0270
* * * *

[FR Doc. 2019-15383 Filed 7-18-19; 8:45 am]

BILLING CODE 4510-26-P